DEPARTMENT OF JUSTICE

Antitrust Division

Notice Pursuant to the National Cooperative Research and Production Act of 1993—Defense Industrial Based Consortium

Notice is hereby given that, on June 28, 2024, pursuant to section 6(a) of the National Cooperative Research and Production Act of 1993, 15 U.S.C. 4301 et seq. (“the Act”), Defense Industrial Based Consortium (“DIBC”) has filed written notifications simultaneously with the Attorney General and the Federal Trade Commission disclosing changes in its membership. The notifications were filed for the purpose of extending the Act's provisions limiting the recovery of antitrust plaintiffs to actual damages under specified circumstances. Specifically, 10x National Security LLC, Aldie, VA; 12031507 Canada, Inc. dba Ribbit, Toronto, CANADA; 327 Solutions, Inc., Paoli, PA; 3D Glass Solutions, Inc., Albuquerque, NM; 3D Systems Inc., Rock Hill, SC; A.T. Kearney Public Sector and Defense Services LLC, Arlington, VA; Advanced Composite Products and Technology, Inc., Huntington Beach, CA; Advanced Materials Manufacturing LLC, Raleigh, NC; Advanced Powder Products, Philipsburg, PA; Aeon Industrial, Inc., Austin, TX; Aerocyonics, Inc., East Greenwich, RI; Aerojet Rocketdyne, Inc., Huntsville, AL; AeroVironment, Inc., Simi Valley, CA; Aether Biomachines, Inc., Menlo Park, CA; AForge LLC, Alexandria, VA; Agility Technical Solutions LLC, Bee Caves, TX; Air Protein, Inc., San Leandro, CA; AKG Advisory Services, Bridgeville, PA; Albany Engineered Composites, Inc., Rochester, NH; Alchemy Geopolymer Solutions LLC, Ruston, LA; Alentic Microscience, Inc., Halifax, CANADA; Algenesis Corp., Cardiff, CA; Alkemix Corp., Laguna Hills, CA; Allied Logistics LLC, Summerville, SC; Allihies Engineering, Inc., Butte, MT; Ambri, Inc., Marlborough, MA; American Flowform Products LLC, Billerica, MA; AMERICAN LIGHTWEIGHT MATERIALS MANUFACTURING INNOVATION INSTITUTE, Detroit, MI; American Rheinmetall Munitions, Inc., Stafford, VA; AMERICAN SOCIETY FOR TESTING AND MATERIALS dba ASTM International, West Conshohocken, PA; American Standard Circuits LLC, West Chicago, IL; Americarb, Inc., Niagara Falls, NY; Amsted Graphite Materials LLC, Anmoore, WV; Anactisis LLC, Pittsburgh, PA; Anduril Industries, Inc., Costa Mesa, CA; Applied Research Institute, Inc., Bloomington, IN; Arcology, Inc., Culver City, CA; Arkham Technology Ltd., Irvine, CA; Armtec Defense Products Co., Coachella, CA; Astro Machine & Tool Works LLC, Tyler, TX; AstroForge, Inc., Huntington Beach, CA; ATC Alliance, Seattle, WA; Atomic Machines, Inc., Berkeley, CA; Australian Strategic Materials Ltd., Perth, AUSTRALIA; Avadain, Inc., Eads, TN; Aviation Resources and Consulting Services dba ARCS Aviation), Cookeville, TN; Avio USA, Inc., Arlington, VA; BAE Systems Information and Electronic Integration, Inc., Nashua, NH; BAE Systems, Inc. Ordnance Systems, Kingsport, TN; Ball Aerospace & Technologies Corp., Boulder, CO; BC Technical Center LLC dba BC Engineered Products, Morristown, NJ; Beehive Industries LLC, Centennial, CO; BGT Aerospace LLC, Freeland, MI; Bigelow Family Holdings LLC dba Mettle Ops, Sterling Heights, MI; Binoloop, Inc., Calgary, CANADA; BioCircuit Technologies, Inc., Atlanta, GA; BioWell, Houston, TX; Blash LLC, Ashland, OH; Blue Whale Materials LLC, Washington, DC; Bluefusion, Inc., Boston, MA; Bluestem Biosciences, Inc., Omaha, NE; Boston Engineering Corp., Waltham, MA; C&R Racing, Inc., Indianapolis, IN; C16 Biosciences, Inc., New York, NY; Cailabs US, Inc., Washington, DC; Calumet Electronics Corp., Calumet, MI; Capital Composites, San Diego, CA; Capra Biosciences, Sterling, VA; Captis Aire LLC, East Point, GA; Carbon-Carbon Advanced Technologies, Inc., Arlington, TX; Carlos Maidana dba MAIDANA RESEARCH, Pocatello, ID; Carnegie Mellon University, Pittsburgh, PA; Castheon, Inc., Thousand Oaks, CA; Cauldron Molecules, Inc., San Antonio, TX; CCX Technologies, Inc., Ottawa, CANADA; Cellibre, Inc., San Diego, CA; Cenith Innovations LLC, Sacramento, CA; Cerebral Energy LLC, Keller, TX; Channel Logistics LLC, Miami, FL; Charles River Analytics, Inc., Cambridge, MA; Checkerspot, Inc., Alameda, CA; Clara Foods Company dba The EVERY Company, Daly City, CA; Clarity Cyber LLC, Linthicum, MD; Clark Street Associates LLC, Los Altos, CA; CleanJoule, Inc., Salt Lake City, UT; Cleveland State University, Cleveland, OH; Colvin Run Networks, Inc., Tysons, VA; Compusult Ltd., Mount Pearl, CANADA; Cornet Technology, Inc., Springfield, VA; Corning Research & Development Corp., Corning, NY; Creaform USA, Inc., Irvine, CA; CubeCab Co., Mountain View, CA; Cummings Aerospace, Inc., Huntsville, AL; Curators of the University of Missouri, Columbia, MO; Cytec Engineered Materials, Inc., Alpharetta, GA; Danimer Bioplastics, Inc., Bainbridge, GA; Danimer Scientific, Inc., Bainbridge, GA; DDM Systems, Inc., Atlanta, GA; Debut Biotechnology, Inc., San Diego, CA; Decisive Point LLC, Cold Spring, NY; Defense Unicorns, Inc., Colorado Springs, CO; Designed Precision Castings, Inc., Brampton, CANADA; Divergent Technologies, Inc., Torrance, CA; DM3D Technology LLC, Auburn Hills, MI; Dmaterial IP LLC, Bedford Park, IL; Domenix Corp., Chantilly, VA; Dreadnought Resources Ltd., Osborne Park, AUSTRALIA; DSM NUTRITIONAL PRODUCTS LLC, Plainsboro, NJ; Duality Systems LLC, Monument, CO; Dynovas, Inc., Poway, CA; E3 Lithium Ltd., Calgary, CANADA; Eagle Minerals West LLC, Atlanta, GA; Earthly Dynamics LLC, Roswell, GA; East Tennessee State University Research Foundation, Johnson City, TN; Eco Building Corp. dba Emerging Technology Institute, Red Springs, NC; Edaptive Computing, Inc., Centerville, OH; Edge Case Research, Inc., Pittsburgh, PA; Edison Welding Institute, Inc., Columbus, OH; Education and Consulting LLC, Phoenix, AZ; Elk Creek Resources Corp., Centennial, CO; Ellis & Watts Global Industries, Inc., Batavia, OH; Energetics Technology Center, Inc., Indian Head, MD; EnerSys Energy Products, Inc., Warrensburg, MO; EngeniusMicro LLC, Huntsville, AL; EnPower, Inc., Indianapolis, IN; Eos Energetics, Inc. dba Estes Energetics, Penrose, CO; Epsilon Systems Solutions, Inc., San Diego, CA; Equispheres, Inc., Kanata, CANADA; Erg Bio, Inc., Dublin, CA; Eutectix LLC, Troy, MI; Evans & Chambers Technology LLC, Arlington, VA; EverGlade Consulting LLC, Charleston, SC; Exquadrum, Inc., Victorville, CA; EZ-A Consulting LLC, Bel Air, MD; Fastcom Supply Corp., Franklin Lakes, NJ; Fastech LLC, Danville, VA; Faxon Machining LLC, Cincinnati, OH; Federal Foundry LLC, Arlington, VA; Fermowrx Holdings LLC, Columbus, GA; Fibre-Tech USA, Stamford, CT; Fidelity Machine and Mould Solutions, Calgary, CANADA; Field Propulsion Technologies, Inc., Aurora, CO; Finless Foods, Emeryville, CA; Firehawk Aerospace, Inc., Addison, TX; Firestorm Labs, Inc., San Diego, CA; First Phosphate Corp., Vancouver, CANADA; Forge Nano, Thornton, CO; FormAlloy Technologies, Inc., Spring Valley, CA; Fortune Minerals Limited, London, CANADA; Freeform Future Corp., Hawthorne, CA; Gamma Alloys, Inc., Valencia, CA; Gecko Robotics, Pittsburgh, PA; General Technologies, Inc., Melbourne Beach, FL; GKN AEROSPACE GTC LLC, Lake Worth, TX; GLC Technologies, Inc., Owens Cross Roads, AL; Global Circuit Innovations, Inc., Colorado Springs, CO; Globe Engineering Company, Inc., Wichita, KS; GLX Power Systems, Inc., Chagrin Falls, OH; GN Corporations, Inc., Airdrie, CANADA; Goodman Technologies LLC, Largo, FL; Google Public Sector LLC, Reston, VA; Green Edge Computing Corp., Vancouver, CANADA; GreenSight, Boston, MA; GreenSource Fabrication LLC, Charlestown, NH; HAAS, Inc., Chicago, IL; Hanley Industries, Inc. dba Riverbend Energetics, Alton, IL; Hathr LLC, Springfield, VA; Heal R World LLC, Somerville, NJ; Helicon Chemical Company LLC, Orlando, FL; Honeywell International, Inc., Clearwater, FL; HRL Laboratories, Malibu, CA; Hughes Circuits, Inc., San Marcos, CA; Hypercomp Engineering, Inc., Brigham City, UT; Hythe Research LLC, Havre de Grace, MD; ICF Mercantile LLC, Warren, NJ; IE Workplace Solutions LLC, Spring, TX; IMT Partnership, Ingersoll, CANADA; Industrial Microbes, Inc., Alameda, CA; InnovateX Pty Ltd., Greenbank, AUSTRALIA; Innovative Technology International, Inc., Lynchburg, VA; International Business Machines Corp. (IBM), Bethesda, MD; International TechneGroup, Inc., Milford, OH; INV Associates LLC, Scarsdale, NY; Invariant Corp., Huntsville, AL; ISOLA USA Corp., Chandler, AZ; JAKTOOL LLC, Cranbury, NJ; Jayhawk Fine Chemicals Corp., Galena, KS; JetCo Solutions LLC, Grand Rapids, MI; Joe Gibbs Manufacturing Solutions LLC, Huntersville, NC; Kairos, Inc., California, MD; KEF Robotics, Pittsburgh, PA; Kennecott Utah Copper LLC, South Jordan, UT; Kennmetal, Inc., Rodgers, AR; KIHOMAC, Inc., Reston, VA; KoBold Metals Company, Berkeley, CA; Kognitiv Spark, Inc., Fredericton, CANADA; Kord Technologies LLC, Huntsville, AL; KVG LLC, Gettysburg, PA; L3HARRIS FUZING AND ORDNANCE SYSTEMS, Inc., Cincinnati, OH; Lacamas Laboratories, Portland, OR; LandFillter, Inc., Lake Wales, FL; Laurel Technologies Partnership dba. DRS Laurel Technologies, Johnstown, PA; Liberation Labs Holdings, Inc., Richmond, IN; Liberty Ion LLC, Houston, TX; Lithos Industries, Inc. dba Element3, Fort Worth, TX; Lumen Bioscience, Inc., Seattle, WA; Lumieres Adventure (2002), Inc., Beaconsfield, CANADA; Lux Precision Manufacturing LLC, Phoenix, AZ; Lygos, Inc., Berkeley, CA; M1 Composites Technology, Inc., Laval, CANADA; Magrathea Metals, Inc., San Francisco, CA; Mantel Technologies, Fort Collins, CO; Marcantonio Global LLC, Alexandria, VA; Materials Research & Design, Inc., Wayne, PA; MATSYS, Inc., Sterling, VA; MCILVENNA BAY OPERATING LTD., Vancouver, CANADA; McIntosh Technologies Consulting, Snohomish, WA; MeasuredRisk, Inc., Paeonian Springs, VA; Mentis Sciences, Inc., Warner, NH; Midwest Printed Circuit Services, Inc., Round Lake Beach, IL; Mighty Waves Energy, Inc., Gaithersburg, MD; Missouri University of Science and Technology, Rolla, MO; Mistral, Inc., Bethesda, MD; Modular Genetics, Inc., Lincoln, MA; Moog, Inc., East Aurora, NY; MRL Materials Resources LLC, Xenia, OH; Munitions Industrial Base Task Force, Inc., Arlington, VA; Nammo Defense Systems, Mesa, AZ; NanoElectronic Imaging, Inc., Riverside, CA; National Center for Defense Manufacturing and Machining, Johnstown, PA; NBS Technology Consulting LLC, Jacksonville Beach, FL; Neo Performance Materials, Inc., Toronto, CANADA; New Dominion Enterprises, Inc., San Antonio, TX; New Trail Corp., Lincoln, MA; Next Rung Technology LLC, Somerville, MA; Nextfed Insights, Inc., Arlington, VA; NHanced Semiconductors, Inc., Batavia, IL; Nimbis Services, Inc., Oro Valley, AZ; Noble Supply & Logistics LLC, Boston, MA; Northrop Grumman Systems Corp.—Propulsion Systems, Corinne, UT; Northrop Grumman Systems Corp.- Mission Systems, Linthicum Heights, MD; Noveon Magnetics, Inc., San Marcos, TX; NRL & Associates, Stevensville, MD; NTS Technical Systems dba Element U.S. Space & Defense, Belcamp, MD; Numat Technologies, Inc., Skokie, IL; Numerica Corp., Fort Collins, CO; Nuvu Cameras, Inc., Montreal, CANADA; OLEDWorks LLC, Rochester, NY; Olles Applied Research LLC, Hilton, NY; OMP Logistics Corp., Paramus, NJ; Onego Bio, Inc., Palo Alto, CA; Optimax Systems, Inc., Ontario, NY; Ozark Integrated Circuits, Inc., Fayetteville, AR; P.W.R Performance Products Pty Ltd., Ormeau, AUSTRALIA; Pacific Scientific Energetics Materials Company (California LLC), Hollister, CA; Packet Digital LLC, Fargo, ND; Parts Life, Inc., Moorestown, NJ; PCC Rollmet, Inc., Irvine, CA; Perfect Day, Inc., Berkeley, CA; Perrarus Solutions, Inc., Newport News, VA; Phoenix Semiconductor Corp., Austin, TX; Pliant Energy Systems, Inc., Brooklyn, NY; Polemarchoi, Inc., Alexandria, VA; Powdermet, Inc., Euclid, OH; Pratt & Miller Engineering & Fabrication LLC, New Hudson, MI; Proteus Space, Inc., Los Angeles, CA; Pseudolithic, Inc., Santa Barbara, CA; Qorvo Texas LLC, Richardson, TX; Quality Manufacturing Company, Inc., Winchester, KY; Quickstep Technologies Pty Ltd., Bankstown Airport, AUSTRALIA; R.E. Darling Co., Inc., Tucson, AZ; Radiance Technologies, Inc., Huntsville, AL; Radiation Monitoring Devices, Watertown, MA; Rapid Innovation & Security Experts, Inc., Colorado Springs, CO; Rare Earth Salts Separations and Refining LLC, Beatrice, NE; Rare Element Resources, Inc., Highlands Ranch, CO; Re:Build Manufacturing Solutions LLC, Framingham, MA; Reecycle, Inc., New York, NY; ReElement Technologies LLC, Fishers, IN; Relativity Space, Long Beach, CA; ReLogic Research, Inc., Huntsville, AL; Resin Solutions LLC, Hermosa Beach, CA; Rhea Space Activity, Inc., Washington, DC; Ring of Fire Metals Pty Ltd, Toronto, CANADA; Rio Tinto Services, Inc., South Jordan, UT; Saab, Inc., East Syracuse, NY; Safaricross, Westerville, OH; Safire Technology Group, Inc., Tysons, VA; Salesforce COM, San Francisco, CA; San Diego Regenerative Medicine Institute, San Diego, CA; Santor Security, Inc., Montreal-Nord, CANADA; SAS MANUFACTURING LLC, Boulder, CO; Savor Foods Limited, San Jose, CA; SB Boron Corp., Bellwood, IL; Scale Free Solutions LLC, Keyser, WV; Science Spark, Encinitas, CA; Scope Technologies US, Inc., San Francisco, CA; Sensor Technology Ltd., Collingwood, CANADA; Silicon Technologies, Inc., Midvale, UT; Simulation Technologies, Inc., Huntsville, AL; Sintavia, Hollywood, FL; SkyWater Technology Foundry, Inc., Bloomington, MN; SMI Solutions, Inc., Huntington, WV; Soldier Systems D-MIL LLC, Gilsum, NH; Solugen, Inc., Houston, TX; Songhi Innovations, Fountain, CO; South Dakota School of Mines and Technology, Rapid City, SD; Southern Cross Aviation LLC, Fort Lauderdale, FL; Space Engine Systems, Inc., Edmonton, CANADA; SPARC Research LLC, Warrenton, VA; Spectral Sciences, Inc., Burlington, MA; SRL Metals Pty Ltd, Melbourne, AUSTRALIA; Steel Founders' Society of America, Crystal Lake, IL; Stephenson Endeavors Corp., Shreveport, LA; Stephenson Stellar Corp., Shreveport, LA; STI Electronics, Inc., Madison, AL; Stratolaunch LLC, Mojave, CA; STS International, Berkeley Springs, WV; Syndicate 708 LLC, Poway, CA; Synonym, Inc., New York, NY; Systima Technologies, Mukilteo, WA; Syzygy Integration LLC, Conshohocken, PA; T.G.V. Rockets, Inc., Washington, DC; Tandem Repeat Technologies, Inc., State College, PA; TechNext, Inc., Richmond, MA; Teck Resources Limited, Vancouver, CANADA; Terves LLC, Euclid, OH; Tex-Tech Coatings LLC, Kernersville, NC; Textum OPCO LLC, Belmont, NC; Thaler Machine Company LLC, Springsboro, OH; Thales Australia Ltd., Sydney Olympic Park, AUSTRALIA; The Better Meat Co., West Sacramento, CA; The Fynder Group, Inc., Chicago, IL; The Johns Hopkins University, Baltimore, MD; The Saskatchewan Research Council, Saskatoon, CANADA; Thomas Global Systems LLC, Irvine, CA; Toray Composite Materials America, Inc., Tacoma, WA; Trusted Semiconductor Solutions, Brooklyn Park, MN; TTM Technologies, Inc., Santa Ana, CA; Tungsten West PLC, Plymouth, GREAT BRITAIN; UI Labs dba MxD USA, Chicago, IL; Umbra Lab, Inc., Santa Barbara, CA; Universal Technical Resource Services, Inc., Cherry Hill, NJ; University of British Columbia—Survive and Thrive Applied Research (STAR), Kelowna, CANADA; University of Florida, Gainesville, FL; Up Doppler Consulting LLC, Leonardtown, MD; Ursa Major Technologies, Inc., Berthoud, CO; Utron Kinetics, Manassas, VA; Valdos Consulting LLC, Coraopolis, PA; Valley Tech Systems, Inc., Folsom, CA; VanDeMark Chemical, Inc., Lockport, NY; VeriTX Corp., Amherst, NY; VerTechs Enterprise, Inc., El Cajon, CA; Veterans Legacy Health Alliance, Inc., Houston, TX; Virginia Tech Applied Research Corp., Arlington, VA; Visolis, Inc., Hayward, CA; Vulcan Elements LLC, Cambridge, MA; Wecoso, Inc., Huntington Beach, CA; Wichita State University, Wichita, KS; Wiley Companies, Coshocton, OH; WingXpand, Inc., St. Louis, MO; Wodin, Inc., Bedford Heights, OH; Wright Electric, Inc., Malta, NY; XR 2 LEAD LLC, Dumfries, VA; York laboratories LLC, York, PA; Zeteo Tech, Inc., Sykesville, MD; and ZymoChem, Inc., San Leandro, CA, have been added as parties to this venture.

No other changes have been made in either the membership or planned activity of the group research project. Membership in this group research project remains open, and DIBC intends to file additional written notifications disclosing all changes in membership.

On February 21, 2024, DIBC filed its original notification pursuant to section 6(a) of the Act. The Department of Justice published a notice in the Federal Register pursuant to section 6(b) of the Act on June 24, 2024 (89 FR 52508).

Suzanne Morris,
Deputy Director Civil Enforcement Operations, Antitrust Division.

[FR Doc. 2024-20965 Filed 9-13-24; 8:45 am]

BILLING CODE P